ENVIRONMENTAL PROTECTION AGENCY

40 CFR Part 52

[EPA-R06-OAR-2025-0173; FRL-12753-02-R6]

Air Plan Approval; Louisiana; Nonattainment Plan for the Evangeline Parish 2010 Sulfur Dioxide Primary National Ambient Air Quality Standard Nonattainment Area

AGENCY: Environmental Protection Agency (EPA).

ACTION: Final rule.

SUMMARY: The Environmental Protection Agency (EPA) is approving the State Implementation Plan (SIP) revision which Louisiana submitted to EPA on April 2, 2025, for attaining the Evangeline Parish 2010 1-hour sulfur dioxide (SO2) primary national ambient air quality standard (NAAQS) nonattainment area. EPA is finalizing approval of the following Clean Air Act (CAA) SIP elements: The attainment demonstration for the SO2 NAAQS, which includes an Agreed Order on Consent (AOC) for the Cabot Corporation's Ville Platte Plant (Cabot) facility; the reasonable further progress (RFP) plan; the reasonably available control measures (RACM) and reasonably available control technology (RACT) demonstration; the emission inventories; and the contingency measures. The State has demonstrated that its current Nonattainment New Source Review (NNSR) program covers this NAAQS; therefore, no revision to the SIP is required for the NNSR element.

DATES: This rule is effective on August 11, 2025.

ADDRESSES: The EPA has established a docket for this action under Docket ID No. EPA-R06-OAR-2025-0173. All documents in the docket are listed on the https://www.regulations.gov website. Although listed in the index, some information is not publicly available, e.g., Confidential Business Information or other information whose disclosure is restricted by statute. Certain other material, such as copyrighted material, is not placed on the internet. Publicly available docket materials are available electronically through https://www.regulations.gov.

FOR FURTHER INFORMATION CONTACT: Matthew Gesualdo, EPA Region 6 Office, SO2 and Regional Haze Section, 214-665-6530, gesualdo.matthew@epa.gov. Please call or email the contact listed above if you need alternative access to material indexed but not provided in the docket.

SUPPLEMENTARY INFORMATION: Throughout this document “we,” “us,” and “our” means the EPA.

I. Background

The background for this action is discussed in detail in our May 8, 2025, proposal (90 FR 19437) and accompanying Technical Support Document (TSD). In that document, we proposed to approve the April 2, 2025, SIP revision submitted by Louisiana Department of Environmental Quality (LDEQ) for the 2010 1-hour SO2 primary NAAQS for the Evangeline Parish nonattainment area. As part of this action, EPA also proposed to approve the Administrative Order on Consent between LDEQ and Cabot as a source-specific revision and to incorporate it by reference into the SIP to provide the enforceable control strategy for the Evangeline Parish area.

The SO2 nonattainment plan includes Louisiana's attainment demonstration (AD) for the Evangeline Parish SO2 nonattainment area. LDEQ modeled air quality based on the Cabot facility's updated emission limits; through that modeling, LDEQ provided sufficient information that the revised limits at the Cabot facility would allow the area to meet the standard. Therefore, EPA concludes that the modeling in LDEQ's plan adequately demonstrates that the control requirements that apply to relevant sources in the area, including the one-hour SO2 emission limits for the Cabot facility, provide for attainment in the area. This nonattainment plan also addresses requirements for emission inventories, RACT/RACM, RFP, and contingency measures. Louisiana has previously addressed requirements regarding nonattainment area New Source Review (NSR). EPA has determined that Louisiana's SO2 nonattainment plan meets the applicable requirements of CAA sections 172, 179(d), 191, and 192.

II. Response to Comments

The public comment period for the proposed rulemaking ended on June 9, 2025. EPA did not receive any comments.

III. Final Action

EPA is finalizing approval of Louisiana's attainment plan submitted on April 2, 2025, as a revision to Louisiana's SIP, for attaining the 2010 1-hour SO2 primary NAAQS for Evangeline Parish. EPA is also taking final action to approve as a source-specific revision to the SIP and incorporate by reference into the State's SIP, the Administrative Order on Consent between LDEQ and Cabot, which provides the enforceable control strategy for the Evangeline Parish area.

IV. Incorporation by Reference

In this action, EPA is finalizing regulatory text that includes incorporation by reference. In accordance with the requirements of 1 CFR 51.5, EPA is finalizing the incorporation by reference of the Louisiana AOC for Cabot Corporation's Ville Platte Plant, effective March 28, 2025, as described in section III of this preamble, Final Action. EPA has made, and will continue to make, these documents generally available electronically through www.regulations.gov (please contact the person identified in the FOR FURTHER INFORMATION CONTACT section of this preamble for more information).

V. Statutory and Executive Order Reviews

Under the CAA, the Administrator is required to approve a SIP submission that complies with the provisions of the Act and applicable Federal regulations. 42 U.S.C. 7410(k); 40 CFR 52.02(a). Thus, in reviewing SIP submissions, the EPA's role is to approve State choices, provided that they meet the criteria of the CAA. Accordingly, this action merely proposes to approve State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the final rule does not have Tribal implications and will not impose substantial direct costs on Tribal governments or preempt Tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by September 8, 2025. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Sulfur oxides.

Authority: 42 U.S.C. 7401 et seq.

Dated: June 26, 2025.
Walter Mason,
Regional Administrator, Region 6.

For the reasons stated in the preamble, the Environmental Protection Agency amends 40 CFR part 52 as follows:

PART 52—APPROVAL AND PROMULGATION OF IMPLEMENTATION PLANS

1. The authority citation for part 52 continues to read as follows:

Authority: 42 U.S.C. 7401 et seq.

Subpart T—Louisiana

2. In § 52.970:

a. In paragraph (d), the table titled “EPA-Approved Louisiana Source-Specific Requirements” is amended by adding an entry for “Cabot Corporation, Ville Platte Plant” at the end of the table; and

b. In paragraph (e), the second table titled “EPA Approved Louisiana Nonregulatory Provisions and Quasi-Regulatory Measures” is amended by adding an entry for “Evangeline Parish Nonattainment Area Plan and Attainment Demonstration for the 2010 Primary 1-Hour SO2 NAAQS” at the end of the table.

The additions read as follows:

§ 52.970 Identification of plan.

* * * * *

(d) * * *

EPA-Approved Louisiana Source-Specific Requirements
Name of source | Permit or order No. | State approval/ effective date | EPA approval date | Comments
* * * * * * *
Cabot Corporation, Ville Platte Plant | 2025-AP-SO2-00 | 3/28/2025 | 7/10/2025, 90 FR [INSERT FEDERAL REGISTER PAGE WHERE THE DOCUMENT BEGINS] | Administrative Order on Consent dated 3/28/2025. Operate according to two categories. Part of the Evangeline Parish SO2 Nonattainment Area Plan.

(e) * * *

EPA Approved Louisiana Nonregulatory Provisions and Quasi-Regulatory Measures
Name of SIP provision | Applicable geographic or nonattainment area | State submittal date/effective date | EPA approval date | Explanation
* * * * * * *
Evangeline Parish Nonattainment Area Plan and Attainment Demonstration for the 2010 Primary 1-Hour SO2 NAAQS | Evangeline Parish, Louisiana SO2 Nonattainment Area | 4/2/2025 | 7/10/2025, 90 FR [INSERT FEDERAL REGISTER PAGE WHERE THE DOCUMENT BEGINS]

[FR Doc. 2025-12801 Filed 7-9-25; 8:45 am]

BILLING CODE 6560-50-P